NATIONAL AERONAUTICS AND SPACE ADMINISTRATION

[Notice 04-158]

NASA Universe Exploration Strategic Roadmap Committee; Meeting

AGENCY: National Aeronautics and Space Administration (NASA).

ACTION: Notice of meeting.

SUMMARY: In accordance with the Federal Advisory Committee Act, Public Law 92-463, as amended, the National Aeronautics and Space Administration announces a forthcoming meeting of the NASA Universe Exploration Strategic Roadmap Committee.

DATES: Tuesday, January 25, 2005, 8 a.m. to 5 p.m.; and Wednesday, January 26, 2005, 8 a.m. to 5 p.m.

ADDRESSES: Grand Hyatt Hotel, 1000 H Street, NW., Washington, DC 20001.

FOR FURTHER INFORMATION CONTACT: Dr. Michael Salamon, Science Mission Directorate, National Aeronautics and Space Administration, Washington, DC 20546, (202) 358-0441.

SUPPLEMENTARY INFORMATION: The meeting will be open to the public up to the capacity of the room. Visitors to the meeting will be requested to sign a visitor's register.

The agenda for the meeting includes the following topics: Overview of Strategic Roadmap Process and Products; Relationship to Capabilities Roadmaps; Legacy Roadmap; Key Universe Science Questions and Future Missions; Roadmap Plan, Next Steps, and Assignments.

It is imperative that the meeting be held on this date to accommodate the scheduling priorities of the key participants.

P. Diane Rausch,
Advisory Committee Management Officer, National Aeronautics and Space Administration.

[FR Doc. 04-28623 Filed 12-29-04; 8:45 am]

BILLING CODE 7510-13-P